DEPARTMENT OF JUSTICE

[OMB Number 1121-0030]

Agency Information Collection Activities; Proposed eCollection eComments Requested; Reinstatement of a Previously Approved Collection; Capital Punishment Report of Inmates Under Sentence of Death

AGENCY: Department of Justice.

ACTION: 30-Day notice.

SUMMARY: The Department of Justice (DOJ), Bureau of Justice Statistics, will be submitting the following information collection request to the Office of Management and Budget (OMB) for review and approval in accordance with the Paperwork Reduction Act of 1995.

DATES: Comments are encouraged and will be accepted for 30 days until May 22, 2024.

FOR FURTHER INFORMATION CONTACT: If you have comments especially on the estimated public burden or associated response time, suggestions, or need a copy of the proposed information collection instrument with instructions or additional information, please contact: Tracy L. Snell, Statistician, Bureau of Justice Statistics, 810 Seventh St NW, Washington, DC 20531 (email: Tracy.L.Snell@usdoj.gov; telephone: 202-598-1660).

SUPPLEMENTARY INFORMATION: The proposed information collection was previously published in the Federal Register, 89 FR 10098-10099 on February 13, 2024, allowing a 60-day comment period.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1121-0030. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a currently approved collection.

2. Title of the Form/Collection: Capital Punishment Report of Inmates Under Sentence of Death.

3. Agency form number, if any, and the applicable component of the Department of Justice sponsoring the collection: The Capital Punishment Report of Inmates Under Sentence of Death (NPS-8) contains four forms: NPS-8 (Report of Inmates Under Sentence of Death; NPS-8A (Update Report of Inmates Under Sentence of Death); NPS-8B (Status of Death Penalty Statutes—No Statute in Force); and NPS-8C (Status of Death Penalty Statutes—Statute in Force). The applicable component within the Department of Justice is the Bureau of Justice Statistics (BJS), in the Office of Justice Programs. The NPS-8 collection is fielded annually. BJS requests clearance for the 2023, 2024, and 2025 NPS-8 under OMB Control No. 1121-0030. The NPS-8 was last approved under OMB Control No. 1121-0030 (exp. date 01/31/2024).

4. Affected public who will be asked or required to respond, as well as a brief abstract: Affected Public: State departments of correction, state Attorneys General, the Federal Bureau of Prisons, the Federal Bureau of Prisons, and the U.S. Attorney for the District of Columbia.

Abstract: For the NPS-8 and NPS-8A forms, the affected public consists for 33 respondents from state departments of correction and the Federal Bureau of Prisons (DOC staff). Staff responsible for keeping records on inmates under sentence of death in their jurisdiction and in their custody are asked to provide information for the following categories: condemned inmates' demographic characteristics, legal status at the time of capital offense, capital offense for which imprisoned, number of death sentences imposed, criminal history information, reason for removal and current status if no longer under sentence of death, method of execution, and cause of death by means other than execution. For the NPS-8B and NPS-8C, the affected public includes 52 respondents from state Attorneys General, and the U.S. Attorney for the District of Columbia (AG staff). These reporters provide information pertaining to the status of and changes to death penalty statutes in their jurisdictions during the calendar year. BJS plans to publish this information in reports and reference it when responding to queries from the U.S. Congress, Executive Office of the President, the U.S. Supreme Court, state officials, international organizations, researchers, students, the media, and others interested in criminal justice statistics.

5. Obligation to Respond: Voluntary.

6. Total Estimated Number of Respondents: 85.

7. Estimated Time per Respondent: 38 hours for DOC staff and 16 minutes for AG staff.

8. Frequency: Once a year.

9. Total Estimated Annual Time Burden: 1,292 hours

10. Total Estimated Annual Other Costs Burden: $0.

Table 1—Total Estimated Burden Hours
Form | Number of respondents | Freq | Total annual responses | Time per survey (mins) | Follow-up responses | Time for follow-up (mins) | Total time (mins) | Total annual burden (hrs)
NPS-8 | 33 | 1 | 19 | 30 | 10 | 15 | 720 | 12 (720 min/60 min).
NPS-8A | 33 | 1 | 2,469 | 30 | 124 | 15 | 75,930 | 1,266 (75930 min/60 min).
NPS-8B/8C | 52 | 1 | 52 | 15 | 5 | 10 | 830 | 14 (830 min/60 min).
Unduplicated Totals | 85 |  | 2,540 |  |  |  |  | 1,292

If additional information is required, contact: Darwin Arceo, Department Clearance Officer, Policy and Planning Staff, Justice Management Division, United States Department of Justice, Two Constitution Square, 145 N Street NE, 4W-218 Washington, DC 20530.

Dated: April 16, 2024.
Darwin Arceo,
Department Clearance Officer for PRA, U.S. Department of Justice.

[FR Doc. 2024-08470 Filed 4-19-24; 8:45 am]

BILLING CODE 4410-18-P